DEPARTMENT OF ENERGY

Federal Energy Regulatory Commission

[Docket No. CP07-104-000]

Columbia Gas Transmission Corporation; Notice of Request Under Blanket Authorization

March 23, 2007.

Take notice that on March 16, 2007, Columbia Gas Transmission Corporation (Columbia), 1700 MacCorkle Avenue, SE., Charleston, West Virginia 25314, filed in Docket No. CP07-104-000, a prior notice request pursuant to sections 157.205 and 157.208 of the Federal Energy Regulatory Commission's regulations under the Natural Gas Act for authorization to increase the maximum allowable operating pressure (MAOP) on its Line O-1591 and a portion of its Line O-400, located in Licking and Muskingum Counties, Ohio, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Columbia proposes to increase the MAOP on Line O-1591, consisting of approximately of 12-inch diameter pipeline, located in Muskingum County, Ohio, and a portion of Line O-400, consisting of approximately 38.55 miles of 16- and 12-inch diameter pipeline, located in Licking and Muskingum Counties, Ohio, from the current 200 psig to a new MAOP of 500 psig and to operate Line O-1591 and that portion of Line O-400 at the higher pressure. Columbia states that the increase of the MAOP will improve the operating efficiency of the pipeline. Columbia asserts that it does not propose any change in service to its existing customers as a result of the proposed uprate.

Any questions regarding the application should be directed to Fredric J. George, Lead Counsel, Columbia Gas Transmission Corporation, P.O. Box 1273, Charleston, West Virginia 25325-1273, or call at (304) 357-2359.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Philis J. Posey,
Acting Secretary.

[FR Doc. E7-5757 Filed 3-28-07; 8:45 am]

BILLING CODE 6717-01-P